DEPARTMENT OF TRANSPORTATION

Federal Aviation Administration

14 CFR Part 39

[Docket No. FAA-2021-0374; Project Identifier MCAI-2020-00543-R; Amendment 39-21663; AD 2021-16-02]

RIN 2120-AA64

Airworthiness Directives; Airbus Helicopters

AGENCY: Federal Aviation Administration (FAA), DOT.

ACTION: Final rule.

SUMMARY: The FAA is adopting a new airworthiness directive (AD) for certain Airbus Helicopters Model SA330J, AS332C, AS332L, AS332L1, AS332L2, and EC225LP helicopters. This AD was prompted by a report of a left-hand (LH) side stairway door that inadvertently opened in flight and tore off from its attachment fittings. This AD requires inspecting the locking safety mechanism of the LH side stairway door handle and depending on the results, corrective action. This AD also requires modifying that locking safety mechanism as specified in a European Union Aviation Safety Agency (EASA) AD, which is incorporated by reference. The FAA is issuing this AD to address the unsafe condition on these products.

DATES: This AD is effective September 24, 2021.

The Director of the Federal Register approved the incorporation by reference of a certain publication listed in this AD as of September 24, 2021.

ADDRESSES: For material incorporated by reference (IBR) in this AD, contact the EASA, Konrad-Adenauer-Ufer 3, 50668 Cologne, Germany; telephone +49 221 8999 000; email ADs@easa.europa.eu; internet www.easa.europa.eu. You may find this material on the EASA website at https://ad.easa.europa.eu. You may view this material at the FAA, Office of the Regional Counsel, Southwest Region, 10101 Hillwood Pkwy., Room 6N-321, Fort Worth, TX 76177. For information on the availability of this material at the FAA, call (817) 222-5110. It is also available in the AD docket on the internet at https://www.regulations.gov by searching for and locating Docket No. FAA-2021-0374.

Examining the AD Docket

You may examine the AD docket on the internet at https://www.regulations.gov by searching for and locating Docket No. FAA-2021-0374; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

FOR FURTHER INFORMATION CONTACT: Hal Jensen, Aerospace Engineer, Operational Safety Branch, FAA, 950 L'Enfant Plaza N SW, Washington, DC 20024; telephone (202) 267-9167; email hal.jensen@faa.gov.

SUPPLEMENTARY INFORMATION:

Background

EASA, which is the Technical Agent for the Member States of the European Union, has issued EASA AD 2020-0087, dated April 15, 2020 (EASA AD 2020-0087), to correct an unsafe condition for certain Airbus Helicopters (AH), formerly Eurocopter, Eurocopter France, Aerospatiale, Sud Aviation, Model SA330J, AS332C, AS332L, AS332L1, AS332L2, and EC225LP helicopters, if equipped with an LH side stairway door, except helicopters modified in accordance with AH modification (MOD) 07 28281 (AS 332, EC 225) or MOD 07 27338 (SA 330). EASA issued EASA AD 2020-0087 to supersede EASA Emergency AD 2014-0241-E, dated November 4, 2014 (EASA AD 2014-0241-E).

The FAA issued a notice of proposed rulemaking (NPRM) to amend 14 CFR part 39 by adding an AD that would apply to certain Model SA330J, AS332C, AS332L, AS332L1, AS332L2, and EC225LP helicopters. The NPRM published in the Federal Register on May 21, 2021 (86 FR 27535). The NPRM was prompted by a report of an LH side stairway door that inadvertently opened and tore off from its attachment fittings during flight. Subsequent investigation revealed that the affected side stairway door had been recently painted and the paint impaired the external door handle motion, affecting the correct operation of the door locking safety mechanism. The NPRM proposed to require inspecting the locking safety mechanism of the LH side stairway door handle and depending on the results, corrective action. The NPRM also proposed to require modifying the locking safety mechanism.

The FAA is issuing this AD to address incorrect locking of the LH side stairway door, which could result in an in-flight opening of the door and subsequent damage to the helicopter or injury to persons on the ground. See EASA AD 2020-0087 for additional background information.

Discussion of Final Airworthiness Directive

Comments

The FAA gave the public the opportunity to participate in developing this final rule. The FAA received no comments on the NPRM or on the determination of the cost to the public.

Conclusion

The FAA reviewed the relevant data and determined that air safety and the public interest require adopting this final rule as proposed.

Related Service Information Under 1 CFR Part 51

EASA AD 2020-0087 requires repetitively inspecting the locking safety mechanism of the LH side stairway door handle for correct operation and depending on the results, reconditioning the locking safety mechanism or contacting the Airbus Helicopters Support and Services Department. EASA AD 2020-0087 also requires modifying the locking safety mechanism, which constitutes terminating action for the repetitive inspections.

This material is reasonably available because the interested parties have access to it through their normal course of business or by the means identified in the ADDRESSES section.

Differences Between This AD and the EASA AD

Where EASA AD 2020-0087 refers to the effective date of EASA AD 2014-0241-E or its effective date, this AD requires using the effective date of this AD. Where EASA AD 2020-0087 refers to Group 1 and 2 helicopters, this AD does not refer to any groups of helicopters. Where the service information referenced in EASA AD 2020-0087 allows the pilot to perform the requirements of the ASB, this AD requires the requirements to be performed by a qualified mechanic. Where the service information referenced in EASA AD 2020-0087 specifies to submit certain information to the manufacturer, this AD does not include that requirement. Where the service information referenced in EASA AD 2020-0087 specifies to discard certain parts, this AD requires removing those parts from service instead. EASA AD 2020-0087 requires repeating the inspection before next flight after each application of painting on the LH side stairway door or its external door handle, whereas this AD does not. EASA AD 2020-0087 requires contacting the Airbus Helicopters Support and Services Department if it is impossible to recondition the locking safety mechanism by moving the door handle, whereas this AD requires, before further flight, accomplishing paragraph (5) of EASA AD 2020-0087 or accomplishing corrective action using a method approved by the Manager, International Validation Branch, FAA. The Manager's approval letter must specifically refer to this AD.

Costs of Compliance

The FAA estimates that this AD affects 37 helicopters of U.S. Registry. Labor rates are estimated at $85 per work-hour. Based on these numbers, the FAA estimates that operators may incur the following costs in order to comply with this AD.

Inspecting the operation of the locking safety mechanism on the LH side stairway door handle takes about 0.1 work-hour for an estimated cost of $9 per helicopter and $333 for the U.S. fleet.

Moving the external door handle from the “Locked” to the “Unlocked” position to determine if the safety mechanism on the LH side stairway door handle can lock automatically takes about 0.5 work-hour for an estimated cost of $43 per helicopter.

Modifying the locking safety mechanism on the LH side stairway door handle takes about 8 work-hours and parts cost about $5,000 for an estimated cost of $5,680 per helicopter.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2021-16-02 Airbus Helicopters: Amendment 39-21663; Docket No. FAA-2021-0374; Project Identifier MCAI-2020-00543-R.

(a) Effective Date

This airworthiness directive (AD) is effective September 24, 2021.

(b) Affected ADs

None.

(c) Applicability

This AD applies to Airbus Helicopters Model SA330J, AS332C, AS332L, AS332L1, AS332L2, and EC225LP helicopters, certificated in any category, as identified in the Applicability of European Union Aviation Safety Agency AD 2020-0087, dated April 15, 2020 (EASA AD 2020-0087).

(d) Subject

Joint Aircraft System Component (JASC) Code: 5210, Passenger/Crew Doors.

(e) Unsafe Condition

This AD was prompted by a report of a left-hand (LH) side stairway door that inadvertently opened and tore off from its attachment fittings during flight. The FAA is issuing this AD to address incorrect locking of the LH side stairway door, which could result in an in-flight opening of the door and subsequent damage to the helicopter or injury to persons on the ground.

(f) Compliance

Comply with this AD within the compliance times specified, unless already done.

(g) Requirements

Except as specified in paragraph (h) of this AD: Comply with all required actions and compliance times specified in, and in accordance with, EASA AD 2020-0087.

(h) Exceptions to EASA AD 2020-0087

(1) Where EASA AD 2020-0087 refers to November 6, 2014 (the effective date of EASA AD 2014-0241-E, dated November 4, 2014) or its effective date, this AD requires using the effective date of this AD.

(2) Where EASA AD 2020-0087 refers to Group 1 and Group 2 helicopters, this AD does not refer to any groups of helicopters.

(3) Where the service information referenced in EASA AD 2020-0087 permits certain actions to be performed by a mechanical engineering technician or pilot, this AD requires that the actions be performed by a qualified mechanic.

(4) Where the service information referenced in EASA AD 2020-0087 specifies to discard certain parts, this AD requires removing those parts from service.

(5) While paragraph (2) of EASA AD 2020-0087 requires actions before next flight after each application of painting on the LH side stairway door or its external door handle, those actions are not required by this AD.

(6) Where paragraph (3) of EASA AD 2020-0087 requires reconditioning the locking safety mechanism, and the service information referenced in paragraph (3) of EASA AD 2020-0087 specifies contacting the Airbus Helicopters Support and Services Department if it is impossible to recondition the locking safety mechanism by moving the door handle, this AD requires moving the external door handle from the “Locked” to the “Unlocked” position to determine if the safety mechanism can lock automatically. If the safety mechanism does not lock automatically, this AD requires, before further flight accomplishing paragraph (5) of EASA AD 2020-0087 or accomplishing corrective action using a method approved by the Manager, International Validation Branch, FAA. The Manager's approval letter must specifically refer to this AD.

(7) Where paragraph (5) of EASA AD 2020-0087 identifies the modification as required by paragraph (4) of EASA AD 2020-0087 as terminating action for the repetitive inspections as required by paragraph (2) of EASA AD 2020-0087 for that helicopter, this AD does not allow the modification to terminate the repetitive inspections as required by paragraph (2) of EASA AD 2020-0087.

(8) The “Remarks” section of EASA AD 2020-0087 does not apply to this AD.

(i) No Reporting Requirement

Although the service information referenced in EASA AD 2020-0087 specifies to submit certain information to the manufacturer, this AD does not include that requirement.

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (k) of this AD. Information may be emailed to: 9-AVS-AIR-730-AMOC@faa.gov.

(2) Before using any approved AMOC, notify your appropriate principal inspector, or lacking a principal inspector, the manager of the local flight standards district office/certificate holding district office.

(k) Related Information

For more information about this AD, contact Hal Jensen, Aerospace Engineer, Operational Safety Branch, FAA, 950 L'Enfant Plaza N SW, Washington, DC 20024; telephone (202) 267-9167; email hal.jensen@faa.gov.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) European Union Aviation Safety Agency (EASA) AD 2020-0087, dated April 15, 2020.

(ii) [Reserved]

(3) For EASA AD 2020-0087, contact the EASA, Konrad-Adenauer-Ufer 3, 50668 Cologne, Germany; telephone +49 221 8999 000; email ADs@easa.europa.eu; internet www.easa.europa.eu. You may find this EASA AD on the EASA website at https://ad.easa.europa.eu.

(4) You may view this service information at the FAA, Office of the Regional Counsel, Southwest Region, 10101 Hillwood Pkwy., Room 6N-321, Fort Worth, TX 76177. For information on the availability of this material at the FAA, call (817) 222-5110. This material may be found in the AD docket on the internet at https://www.regulations.gov by searching for and locating Docket No. FAA-2021-0374.

(5) You may view this material that is incorporated by reference at the National Archives and Records Administration (NARA). For information on the availability of this material at NARA, email fedreg.legal@nara.gov, or go to https://www.archives.gov/federal-register/cfr/ibr-locations.html.

Issued on July 20, 2021.
Gaetano A. Sciortino,
Deputy Director for Strategic Initiatives, Compliance & Airworthiness Division, Aircraft Certification Service.

[FR Doc. 2021-17840 Filed 8-19-21; 8:45 am]

BILLING CODE 4910-13-P